DEPARTMENT OF ENERGY

Federal Energy Regulatory Commission

[Project No. 13623-001]

City of Raleigh; Notice of Intent To File License Application, Filing of Pre-Application Document, and Approving Use of the Traditional Licensing Process

a. Type of Filing: Notice of Intent to File License Application and Request to Use the Traditional Licensing Process.

b. Project No.: 13623-001.

c. Date Filed: October 3, 2011.

d. Submitted by: City of Raleigh (Raleigh).

e. Name of Project: Falls Lake Dam Hydroelectric Project.

f. Location: At the U.S. Army Corps of Engineers' Falls Lake Dam, located on the Neuse River, in the northern portion of Wake County, North Carolina, just outside the City of Raleigh municipal boundary.

g. Filed Pursuant to: 18 CFR 5.3 of the Commission's Regulations.

h. Potential Applicant Contact: Kenneth Waldroup, Assistant Public Utilities Director, City of Raleigh, P.O. Box 590, Raleigh, NC 27601; (919) 996-3489; Kenneth.Waldroup@raleighnc.gov.

i. FERC Contact: Jennifer Adams (202) 502-8087 or by email at jennifer.adams@ferc.gov.

j. The City of Raleigh filed its request to use the Traditional Licensing Process on October 3, 2011. Raleigh filed public notice of its request on November 23, 2011. In a letter dated November 29, 2011, the Director of the Division of Hydropower Licensing approved Raleigh's request to use the Traditional Licensing Process.

k. With This notice, We Are Initiating Informal Consultation With: (a) The U.S. Fish and Wildlife Service and National Marine Fisheries Service (NMFS) under section 7 of the Endangered Species Act and the joint agency regulations thereunder at 50 CFR part 402; (b) NMFS under section 305(b) of the Magnuson-Stevens Fishery Conservation and Management Act and implementing regulations at 50 CFR 600.920; and (c) the North Carolina State Historic Preservation Officer, as required by section 106, National Historical Preservation Act, and the implementing regulations of the Advisory Council on Historic Preservation at 36 CFR 800.2.

l. The City of Raleigh filed a Pre-Application Document (PAD; including a proposed process plan and schedule) with the Commission, pursuant to 18 CFR 5.6 of the Commission's Regulations.

m. A copy of the PAD is available for review at the Commission in the Public Reference Room or may be viewed on the Commission's Web site (http://www.ferc.gov), using the “eLibrary” link. Enter the docket number, excluding the last three digits, in the docket number field to access the document. For assistance, contact FERC Online Support at FERCONlineSupport@ferc.gov, or toll-free at 1-(866) 208-3676, or for TTY, (202) 502-8659. A copy is also available for inspection and reproduction at the City of Raleigh's business office, located at One Exchange Plaza, Suite 620, or by contacting Raleigh at the mailing address located in paragraph h.

n. Register online at http://www.ferc.gov/docs-filing/esubscription.asp to be notified via email of new filing and issuances related to this or other pending projects. For assistance, contact FERC Online Support.

Dated: November 29, 2011.
Kimberly D. Bose,
Secretary.

[FR Doc. 2011-31172 Filed 12-5-11; 8:45 am]

BILLING CODE 6717-01-P